DEPARTMENT OF COMMERCE

National Oceanic and Atmospheric Administration

Agency Information Collection Activities; Submission to the Office of Management and Budget (OMB) for Review and Approval; Comment Request; Nautical Discrepancy and Data Reporting System

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before May 23, 2022.

ADDRESSES: Interested persons are invited to submit written comments to Adrienne Thomas, NOAA PRA Officer, at NOAA.PRA@noaa.gov. Please reference OMB Control Number 0648-0007 in the subject line of your comments. Do not submit Confidential Business Information or otherwise sensitive or protected information.

FOR FURTHER INFORMATION CONTACT: Requests for additional information or specific questions related to collection activities should be directed to Richard Powell, (302) 703-9041, or Richard.Powell@noaa.gov.

SUPPLEMENTARY INFORMATION:

I. Abstract

This request is for a revision and extension of a currently approved information collection.

NOAA's Office of Coast Survey (Coast Survey) is the nation's nautical chartmaker, maintaining and updating over a thousand charts covering the 3.5 million square nautical miles of coastal waters in the U.S. Exclusive Economic Zone and the Great Lakes. The marine transportation system relies on charting accuracy and precision to keep navigation safe and coastal communities protected from environmental disasters at sea.

Coast Survey also writes and publishes the United States Coast Pilot® (Coast Pilot), a series of ten nautical books that supplement nautical charts with essential marine information that cannot be shown graphically on the charts and are not readily available elsewhere. Subjects include, but are not limited to, channel descriptions, anchorages, bridge and cable clearances, tides and tidal currents, prominent features, pilotage, towage, weather, ice conditions, wharf descriptions, dangers, routes, traffic separation schemes, small craft facilities and Federal Regulations applicable to navigation.

The marine environment and shorelines are constantly changing. NOAA makes every effort to update information portrayed in charts and described in the Coast Pilot. Sources of information include, but are not limited to: Pilot associations, shipping companies, towboat operators, state marine authorities, city marine authorities, local port authorities, marine operators, hydrographic research vessels, naval vessels, Coast Guard cutters, merchant vessels, fishing vessels, pleasure boats, U.S. Power Squadron Units, U.S. Coast Guard Auxiliary Units, and the U.S. Army Corps of Engineers (USACE).

The purpose of NOAA's Nautical Discrepancy and Data Reporting System is to offer formal, standardized instruments for recommending changes, corrections, and updates to nautical charts and the Coast Pilot, and to monitor and document the accepted changes. Coast Survey solicits information through the Aimed Stakeholder Interaction and Survey Tool (ASSIST) (https://www.nauticalcharts.noaa.gov/customer-service/assist/).

This collection also includes a Citizen Science component, which allows boating groups or individuals to submit reports to update the charts. The Citizen Science component to the collection benefits Coast Survey by allowing the public to “adopt” a product or part of a product and provide annual data updates that directly affect that product or products. Data obtained through Citizen Science reports may be used to update certain U.S. nautical charts and the Coast Pilot.

The Nautical Data Branch (NDB) receives numerous potential construction notifications in the form of USACE-issued Public Notices, Permit Applications, and Permits, which could include a proposal or authorization to dredge and/or construct, remove, or abandon structures. NDB vets these Public Notices, Permit Applications, or Permits for the potential of a charting action and registers them into a database. To facilitate the ability of NDB to learn the status of USACE-permitted projects and to obtain as-built and/or survey data associated with the completion of these projects, Coast Survey is proposing to add three Project Status Report Forms to the collection. The solicitation forms, titled Permit/Public Notice Status Report, Artificial Reef/Mariculture Status Report, and Submerged Pipeline Status Report Form, provide a standardized method for reporting project statuses to the Nautical Data Branch and provide special instructions regarding the submission of digital as-builts and/or survey data. Upon receipt of the forms, NDB may register the forms, along with the USACE Permit and any as-built data, into the Marine Chart Division's (MCD) internal database in support of potential updates to the applicable NOAA nautical chart(s).

These forms provide an effective way for permittees to notify MCD of the status of their permitted projects and help MCD garner pertinent data necessary for chart application. This mode of data delivery facilitates the ability of NDB to capture complete, more efficient, registration-ready source packages that require less frequent correspondence with the permittee prior to source registration. This process is instrumental in accelerating the availability of important, and/or possibly critical, nautical data to the cartographic production branches for charting action.

The title of this collection is also being updated from Nautical Discrepancy Reporting System to Nautical Discrepancy and Data Reporting System.

II. Method of Collection

Respondents can submit discrepancy reports electronically through the ASSIST website or by telephone (888-990-6622).

Status Report Forms: Every month, NDB mails customized versions of the previously mentioned status report forms to a different batch of permittees, requesting information on the completion status of their permitted projects. If a permittee would like to notify the Marine Chart Division (MCD) of the completion of their project before receiving a customized version of a status report form from NDB, blank status report forms can be acquired from the Coast Survey website, or the forms may be emailed by NDB to the permittee upon request.

After completion, respondents can submit the Status Report Forms, and provide any associated as-built/survey data, to NDB by mail or via email.

III. Data

OMB Control Number: 0648-0007.

Form Number(s): None.

Type of Review: Regular submission [Revision and extension of a currently approved information collection].

Affected Public: Business or other for-profit; state, local, and tribal government; universities; individuals or households; not for-profit institutions, professional and other mariners, etc.

Estimated Number of Respondents: 1,570.

Estimated Time per Response: 10-15 minutes depending on the report.

Estimated Total Annual Burden Hours: 797.

Estimated Total Annual Cost to Public: $388.60.

Respondent's Obligation: Voluntary.

Legal Authority: None.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-06158 Filed 3-22-22; 8:45 am]

BILLING CODE 3510-JE-P